CONSUMER PRODUCT SAFETY COMMISSION

Proposed Collection of Information; Comment Request—Procurement of Goods and Services

AGENCY: Consumer Product Safety Commission.

ACTION: Notice.

SUMMARY: As required by the Paperwork Reduction Act (44 U.S.C. Chapter 35), the Consumer Product Safety Commission requests comments on a proposed extension of approval for a period of three years from the date of approval of a collection of information associated with the procurement of goods and services. Forms used by the Commission for procurement of goods and services request persons who quote, propose, or bid on contracts to provide information needed to evaluate quotes, proposals, and bids in accordance with applicable laws and regulations.

The Commission will consider all comments received in response to this notice before requesting extension of approval of this collection of information from the Office of Management and Budget (OMB).

DATES: The Office of the Secretary must receive comments not later than February 3, 2006.

ADDRESSES: Written comments should be captioned “Procurement of Goods and Services; Paperwork Reduction Act,” and sent by e-mail to cpsc-os@cpsc.gov. Written comments may also be sent to the Office of the Secretary by facsimile at (301) 504-0127, or by mail to the Office of the Secretary, Consumer Product Safety Commission, Washington, DC 20207, or delivered to the Office of the Secretary, Room 502, 4330 East-West Highway, Bethesda, Maryland 20814.

FOR FURTHER INFORMATION CONTACT: For information about the proposed collection of information call or write Linda L. Glatz, Management and Program Analyst, Office of Planning and Evaluation, Consumer Product Safety Commission, Washington, DC 20207; (301) 504-7671.

SUPPLEMENTARY INFORMATION: The Commission's procurement of goods and services is governed by the Federal Property and Administrative Services Act of 1949, as amended (41 U.S.C. 253 et seq.). That law requires the Commission to procure goods and services under conditions most advantageous to the government, considering cost and other factors.

A. Information Required by Procurement Forms

The Commission requires persons and firms to submit quotations, proposals, and bids for contracts to provide goods and services on standardized forms. These forms request information from offerors about costs or prices of goods and services to be supplied; specifications of goods and descriptions of services to be delivered; competence of the offeror to provide the goods or services; and other information about the offeror such as the size of the firm and whether it is minority owned. The Commission uses the information provided by offerors to determine the reasonableness of prices and costs and the responsiveness of potential contractors to undertake the work involved so that all bids may be awarded in accordance with Federal procurement laws.

OMB approved the collection of information requirements in the procurement forms used by the Commission under control number 3041-0059. OMB's most recent extension of approval will expire on January 31, 2006. The CPSC now proposes to request extension of approval for the information collection requirements in the forms used for procurement of goods and services. The Commission plans to use the Internet and the General Services Administration's (GSA) GSA Advantage System for delivery order purchasing. The Internet provides small businesses access to information about the Commission's current needs for goods and services.

B. Information Collection Burden

During fiscal year 2004, approximately 870 firms spent about 17,658 hours responding to all Requests for Quotations (RFQs), and Requests for Proposals (RFPs) issued by the Commission. The time required by vendors to respond ranged from as little as 15 minutes per firm for a simple telephone, e-mail, fax, or Internet response concerning the purchase of a standard item or service, to as much as 120 hours per firm for a complex written offer prepared in response to technically complex RFQs and RFPs. Based on the number of procurements, details of actions reported by the Federal Procurement Data System, and the procurement staff's experience with the sales and technical functions of various vendors, we believe firms spent an estimated 368 hours responding to oral, electronic, and written RFQs and RFPs and approximately 17,290 hours preparing quotes and proposals in response to more complex RFQs and RFPs.

The cost of preparing a response to an oral, electronic, or written RFQ or RFP for regular sales staff and high level sales staff with advanced technical expertise for more complex procurements averaged $41.03 per hour. The cost of preparing a response to more complicated and highly complex FRQs or RFPs for high level sales and proposal response staff with advanced technical expertise and experience averaged $52.70 per hour. The salary estimates are based on web research from careerjournal.com, salary.com and monster.com. The annualized cost to all firms for responding to all RFQs and RFPs issued by the Commission is estimated to be $926,282.04 (368 hours × $41.03/hr + 17,290 hours × $52.70/hr = $926,282.04).

The total cost to the government for all collections of information by the Commission related to procurement of goods and services is estimated to be about $830,447 a year. This estimate was made by reviewing the Commission's procurement activities in fiscal year 2004.

C. Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Dated: November 29, 2005.
Todd A. Stevenson,
Secretary, Consumer Product Safety Commission.

[FR Doc. E5-6801 Filed 12-2-05; 8:45 am]

BILLING CODE 6355-01-P